DEPARTMENT OF AGRICULTURE

Animal and Plant Health Inspection Service

[Docket No. APHIS-2014-0096]

Notice of Availability of a Pest List for the Interstate Movement of Fresh Sea Asparagus Tips From Hawaii Into the Continental United States

AGENCY: Animal and Plant Health Inspection Service, USDA.

ACTION: Notice.

SUMMARY: We are advising the public that we have prepared a pest list and risk management document regarding the risks associated with the interstate movement of fresh sea asparagus tips from Hawaii into the continental United States. Based on these documents, we have determined that the application of one or more designated phytosanitary measures will be sufficient to mitigate the risks of introducing or disseminating plant pests or noxious weeds via the movement of fresh sea asparagus tips from Hawaii. We are making these documents available to the public for review and comment.

DATES: We will consider all comments that we receive on or before March 24, 2015.

ADDRESSES: You may submit comments by either of the following methods:

• Federal eRulemaking Portal: Go to http://www.regulations.gov/#!docketDetail;D=APHIS-2014-0096.

• Postal Mail/Commercial Delivery: Send your comment to Docket No. APHIS-2014-0096, Regulatory Analysis and Development, PPD, APHIS, Station 3A-03.8, 4700 River Road Unit 118, Riverdale, MD 20737-1238.

Supporting documents and any comments we receive on this docket may be viewed at http://www.regulations.gov/#!docketDetail;D=APHIS-2014-0096 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: Mr. David Lamb, Senior Regulatory Policy Specialist, PPQ, APHIS, 4700 River Road Unit 133, Riverdale, MD 20737-1231; (301) 851-2103.

SUPPLEMENTARY INFORMATION: Under the regulations in “Subpart—Regulated Articles From Hawaii and the Territories” (7 CFR 318.13-1 through 318.13-26, referred to below as the regulations), the Animal and Plant Health Inspection Service (APHIS) of the U.S. Department of Agriculture prohibits or restricts the interstate movement of fruits and vegetables from Hawaii, Puerto Rico, the U.S. Virgin Islands, Guam, and the Commonwealth of the Northern Mariana Islands to the continental United States to prevent the spread of plant pests and noxious weeds that occur in Hawaii and the territories.

Section 318.13-4 contains a performance-based process for approving the interstate movement of certain fruits and vegetables from Hawaii and the U.S. territories that, based on the findings of a pest list, can be safely moved subject to one or more of the six designated phytosanitary measures listed in § 318.13-4(b).

APHIS received a request from the Hawaii Department of Agriculture to allow the interstate movement of fresh sea asparagus tips (Salicornia bigelovii Torr.) to the continental United States. Hawaii has indicated a specific interest in production and shipment of fresh sea asparagus tips, which are currently prohibited from interstate movement from Hawaii to the continental United States.

We have prepared a pest list to identify pests of quarantine significance that could follow the pathway of interstate movement into the continental United States. Based on that pest list, we prepared a risk management document (RMD) to identify phytosanitary measures that could be applied to the commodity to mitigate the pest risk. We have concluded that fresh sea asparagus tips can be safely moved from Hawaii to the continental United States using one or more of the six designated phytosanitary measures listed in § 318.13-4(b). Specifically, fresh seas asparagus tips would have to be moved interstate as commercial consignments only and be subject to pre-departure inspection in Hawaii prior to interstate movement into the continental United States.

Therefore, in accordance with § 318.13-4(c), we are announcing the availability of our pest list and RMD for public review and comment. The documents may be viewed on the Regulations.gov Web site or in our reading room (see ADDRESSES above for a link to Regulations.gov and information on the location and hours of the reading room). You may request paper copies of the pest list and RMD by calling or writing to the person listed under FOR FURTHER INFORMATION CONTACT. Please refer to the subject of the analysis when requesting copies.

After reviewing any comments we receive, we will announce our decision regarding the interstate movement of fresh sea asparagus tips from Hawaii in a subsequent notice. If the overall conclusions of our analysis and the Administrator's determination of risk remain unchanged following our consideration of the comments, then we will authorize the interstate movement of fresh sea asparagus tips from Hawaii into the continental United States subject to the requirements specified in the RMD.

Authority: 7 U.S.C. 7701-7772 and 7781-7786; 7 CFR 2.22, 2.80, and 371.3.

Done in Washington, DC, this 16th day of January 2015.
Kevin Shea,
Administrator, Animal and Plant Health Inspection Service.

[FR Doc. 2015-01148 Filed 1-22-15; 8:45 am]

BILLING CODE 3410-34-P